DEPARTMENT OF TRANSPORTATION

Federal Aviation Administration

14 CFR Part 73

[Docket No. FAA-2002-12302; Airspace Docket No. 02-AWP-05]

RIN 2120-AA66

Amendment to Using Agency for Restricted Area 2534 A & B, Vandenberg Air Force Base, CA

AGENCY: Federal Aviation Administration (FAA), DOT.

ACTION: Final rule.

SUMMARY: This action changes the using agency of R-2534 A and B, Vandenberg Air Force Base (AFB), CA, from “HQ, Space and Missile Test Center, (SAMTEC) ROSF, Vandenberg AFB, CA,” to “U.S. Air Force, Commander, 30th Space Wing, Vandenberg, AFB, CA.” The FAA is taking this action in response to a request from the United States Air Force to reflect an administrative change of responsibility for the restricted areas. There are no changes to the boundaries; designated altitudes; time of designation; or activities conducted within the affected restricted areas.

EFFECTIVE DATE: 0901 UTC, November 28, 2002.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

The Rule

This amendment to 14 CFR part 73 changes the using agency of R-2534 A and B, Vandenberg AFB. On January 16, 2002, the United States Air Force requested that the FAA change the using agency for R-2534 A and B from, “HQ, Space and Missile Test Center, (SAMTEC) ROSF, Vandenberg AFB, CA,” to “U.S. Air Force, Commander, 30th Space Wing, Vandenberg, AFB, CA.” This action addresses this request. This is an administrative change and does not affect the boundaries, designated altitudes, or activities conducted within the restricted areas. Therefore, notice and public procedures under 5 U.S.C. 553(b) are unnecessary. Section 73.22 of part 73 was republished in FAA Order 7400.8J, dated September 20, 2002.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 73

Airspace, Navigation (air).

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.22 [Amended]

2. § 73.25 is amended as follows:

* * * * *

R-2534 A [Amended]

By removing the words by removing the words “Using agency. HQ, Space and Missile Test Center, (SAMTEC) ROSF, Vandenberg AFB, CA. and inserting the words “Using agency. U.S. Air Force, Commander, 30th Space Wing, Vandenberg, AFB, CA.”

R-2534 B [Amended]

By removing the words by removing the words “Using agency. HQ, Space and Missile Test Center, (SAMTEC) ROSF, Vandenberg AFB, CA. and inserting the words “Using agency. U.S. Air Force, Commander, 30th Space Wing, Vandenberg, AFB, CA.”

* * * * *

Issued in Washington, DC, September 6, 2002.
Reginald C. Matthews,
Manager, Airspace and Rules Division.

[FR Doc. 02-23282 Filed 9-12-02; 8:45 am]

BILLING CODE 4910-13-P